DEPARTMENT OF DEFENSE

Department of the Navy

[Docket ID: USN-2008-0066]

Privacy Act of 1974; System of Records

AGENCY: U.S. Marine Corps, DoD.

ACTION: Notice to amend a system of records.

SUMMARY: The U.S. Marine Corps is proposing to amend a system of records notice in its existing inventory of record systems subject to the Privacy Act of 1974, (5 U.S.C. 552a), as amended.

DATES: This proposed action will be effective without further notice on January 30, 2009 unless comments are received which result in a contrary determination.

ADDRESSES: Send comments to Headquarters, U.S. Marine Corps, FOIA/PA Section (ARSF), 2 Navy Annex, Room 3134, Washington, DC 20380-1775.

FOR FURTHER INFORMATION CONTACT: Ms. Tracy Ross at (703) 614-4008.

SUPPLEMENTARY INFORMATION: The U.S. Marine Corps systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: December 23, 2008.
Morgan E. Frazier,
Alternate OSD Federal Register Liaison Officer, Department of Defense.

M06320-X

SYSTEM NAME:

Marine Corps Total Information Management Records. (December 8, 2008, 73 FR 74474).

CHANGES:

Change System ID to “M06320-1.”

* * * * *

M06320-1

SYSTEM NAME:

Marine Corps Total Information Management Records.

SYSTEM LOCATION:

United States Marine Corps Systems Command, Office of the Command Information Officer, 2200 Lester Street, Quantico, VA 22143-6050.

CATEGORIES OF INDIVIDUALS COVERED BY THE SYSTEM:

Marine Corps Systems Command active duty, reservists, civilians, and contractors personnel.

CATEGORIES OF RECORDS IN THE SYSTEM:

The system contains personnel data which includes, but is not limited to individual's name, rank/grade, Social Security Number (SSN), current address, contact information, duty status, component code, sex, security investigation date/type, education, training information to include military occupational specialties and related data.

AUTHORITY FOR MAINTENANCE OF THE SYSTEM:

10 U.S.C. 5013, Secretary of the Navy; 10 U.S.C. 5041, United States Marine Corps; 5 U.S.C. 301, Departmental Regulations; E.O. 10450, Security Requirements for Government Employment and E.O. 9397 (SSN).

PURPOSE(S):

The Total Information Gateway-Enterprise Resources System is a system of records that serves as a controlled repository for information needed by personnel necessary for performance of duties and other DoD-related functions. It supports the following strategically essential business processes: Facilities Management, Knowledge Management, Task Management, Document Management, Personnel Management and additional Business support functions such as Security services. It is an ongoing, growing, flexible system that encompasses a number of strategic applications including: Online all hands messages, knowledge centers, calendars, the command tasker system and other workflow applications. As a management tool, statistical data, with all personal identifiers removed, may be used for system efficiency, workload calculation, or reporting purposes.

ROUTINE USES OF RECORDS MAINTAINED IN THE SYSTEM, INCLUDING CATEGORIES OF USERS AND THE PURPOSES OF SUCH USES:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Marine Corps' compilation of systems of records notices apply to this system.

POLICIES AND PRACTICES FOR STORING, RETRIEVING, ACCESSING, RETAINING, AND DISPOSING OF RECORDS IN THE SYSTEM:

STORAGE:

Electronic storage media.

RETRIEVABILITY:

Individual's name and/or Social Security Number (SSN).

SAFEGUARDS:

Access is restricted only by authorized persons who are properly screened. This system is password and/or System software uses Primary Key Infrastructure (PKI)/Common Access Card (CAC) protected. Based on user profiles, there are different levels of access. Full access to information maintained in the database is available only to authorized Agency personnel with established official need-to-know. Records are maintained in secure, limited access, or monitored work areas accessible only to authorized personnel.

RETENTION AND DISPOSAL:

Records are retained for three years and then destroyed.

SYSTEM MANAGER(S) AND ADDRESS:

Marine Corps Systems Command, Office of the Command Information Officer, 2200 Lester Street, Quantico, VA 22134-6050.

NOTIFICATION PROCEDURE:

Individuals seeking to determine whether information about themselves is contained in this system should address written inquiries to U.S Marine Corps System Command, Office of the Command Information Officer, Information Systems Management Team, 2200 Lester Street, Quantico, VA 22134-6050.

Requests should contain individual's name, Social Security Number (SSN), current mailing address, and must be signed.

RECORD ACCESS PROCEDURES:

Individuals seeking access to information about themselves contained in this system should address written inquiries to U.S Marine Corps System Command, Office of the Command Information Officer, Information Systems Management Team, 2200 Lester Street, Quantico, VA 22134-6050.

Requests should contain individual's name, Social Security Number (SSN), current mailing address and must be signed.

CONTESTING RECORD PROCEDURES:

The USMC rules for contesting contents and appealing initial agency determinations are published in Secretary of the Navy Instruction 5211.5E; 32 CFR part 701; or may be obtained from the system manager.

RECORD SOURCE CATEGORIES:

Individuals.

EXEMPTIONS CLAIMED FOR THE SYSTEM:

None.

[FR Doc. E8-31072 Filed 12-30-08; 8:45 am]

BILLING CODE 5001-06-P